Proclamation 7895 of May 3, 2005

Older Americans Month, 2005

By the President of the United States of America

A Proclamation

Older Americans teach us the timeless lessons of courage, sacrifice, and love. By sharing their wisdom and experience, they serve as role models for future generations. During Older Americans Month, we pay tribute to our senior citizens and their contributions to our Nation.

Our seniors deserve our greatest respect. Their example shows us how to persevere in the face of hardship, care for others in need, and take pride in our communities. Their patriotism, service, and leadership inspire Americans and shape the character and future of our country.

Millions of Americans are now living longer, more productive lives, and many are choosing to stay active in the workforce. Senior citizens are also giving their time and talents by volun teering in many ways—from mentoring youth and participating in environmental stewardship projects to serving the homeless and assisting in emergency preparedness. More than 500,000 senior citizens volunteer through Senior Corps, a network of programs that enables older Americans to meet the needs and challenges of their communities. Through the USA Freedom Corps and Senior Corps, older Americans are dedicating their time and energy to strengthening our Nation and serving a cause greater than themselves.

This year marks the 40th anniversary of the Older Americans Act of 1965, which was created to improve the welfare of our seniors. By treating older Americans with the dignity and respect they deserve, we honor their legacy and contributions to our Nation. Their guidance and love enrich our country and make America a better place for all.

NOW, THEREFORE, I, GEORGE W. BUSH, President of the United States of America, by virtue of the authority vested in me by the Constitution and laws of the United States, do hereby proclaim May 2005 as Older Americans Month. I commend our senior citizens for their many contributions to our society. I also commend the network of Federal, State, local, and tribal organizations, service and health care providers, caregivers, and dedicated volunteers who work on behalf of our senior citizens. I encourage all Americans to honor their elders, to care for those in need, and to publicly reaffirm our Nation's commitment to older Americans this month and throughout the year.

IN WITNESS WHEREOF, I have hereunto set my hand this third day of May, in the year of our Lord two thousand five, and of the Independence of the United States of America the two hundred and twenty-ninth.

B

[FR Doc. 05-9161

Filed 5-4-05; 9:15 am]

Billing code 3195-01-P